DEPARTMENT OF ENERGY

Federal Energy Regulatory Commission

[Docket No. RP91-143-052]

Great Lakes Gas Transmission Limited Partnership; Notice of Revenue Sharing Report November 2000-October 2001

January 23, 2002.

Take notice that on January 16, 2002, Great Lakes Gas Transmission Limited Partnership (Great Lakes) filed its Interruptible/Overrun (I/O) Revenue Sharing Report with the Federal Energy Regulatory Commission (Commission) in accordance with the Stipulation and Agreement (Settlement) filed on September 24, 1992, and approved by the Commission's February 3, 1993 order issued in Docket No. RP91-143-000, et al.

Great Lakes states that this report reflects application of the revenue sharing mechanism and remittances made to firm shippers for I/O revenue collected for the November 1, 2000 through October 31, 2001 period, in accordance with Article IV of the Settlement. Such remittances, totaling $35,146, were made to Great Lakes' firm shippers as shown in the schedules included in the filing.

Great Lakes states that copies of the report were sent to its firm customers, parties to this proceeding and the Public Service Commissions of Minnesota, Wisconsin and Michigan.

Great Lakes further states the amounts remitted are based on implementation of the Commission's orders in Docket Nos. RP91-143, RS92-63 and RP95-422, et al.

Any person desiring to protest said filing should file a protest with the Federal Energy Regulatory Commission, 888 First Street, NE., Washington, DC 20426, in accordance with Section 385.211 of the Commission's Rules and Regulations. All such protests must be filed on or before January 29, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-2103 Filed 1-28-02; 8:45 am]

BILLING CODE 6717-01-P